DEPARTMENT OF DEFENSE

Department of the Navy

NATIONAL AERONAUTICS AND SPACE ADMINISTRATION

Notice of Intent To Prepare an Environmental Impact Statement for Pacific Missile Range Facility and Kōke'e Park Geophysical Observatory Real Estate

AGENCY: Department of the Navy (DON), Department of Defense (DoD), and National Aeronautics and Space Administration (NASA).

ACTION: Notice.

SUMMARY: Pursuant to the National Environmental Policy Act (NEPA) of 1969 and regulations implemented by the Council on Environmental Quality, the Department of the Navy (DON) and National Aeronautics and Space Administration (NASA), the DON and NASA announce their intent to prepare an Environmental Impact Statement (EIS) to evaluate the potential environmental effects associated with the continued long-term DoD use of 8,348 acres of State lands on Kauai, Hawaii for operational continuity and sustainment (in support of continued military training, testing, and facility operations) at the Pacific Missile Range Facility (PMRF), and the continued long-term NASA use of 23 acres of State lands on Kaua'i, Hawaii in support of continued operations (including measurements of the Earth's rotation and local land motion) at Kōke'e Park Geophysical Observatory (KPGO).

DATES: The 40-day public scoping period begins on May 8, 2024, and extends to June 17, 2024. Comments must be postmarked or submitted electronically via the project website no later than 11:59 p.m. Hawaii Standard Time (HST) on June 17, 2024 for consideration in the Draft EIS.

Public scoping meetings are planned as follows:

• June 4, 2024, from 5:00-8:00 p.m. HST at Kaua'i Veterans Center, 3215 Kaua'i Veterans Memorial Highway, Līhu'e

• June 5, 2024, from 5:00-8:00 p.m. HST at Kekaha Neighborhood Center, 8130 Elepaio Road, Kekaha

• June 6, 2024, from 5:00-8:00 p.m. HST at Sheraton Coconut Beach Resort, 650 Aleka Loop, Kapa'a

The purpose of the scoping period is to provide the public with information related to the Proposed Action, its purpose and need, environmental resources to be analyzed in the EIS, the NEPA and HEPA process, consultation under NHPA, and public involvement opportunities. The DON and NASA are providing a web-based platform, as well as public scoping meetings for the public to learn about the Proposed Action and alternatives and to provide scoping comments. Comments must be postmarked or submitted electronically via the website no later than 11:59 p.m. HST on June 17, 2024 for consideration in the Draft EIS.

ADDRESSES: The DON and NASA invite all interested parties to submit scoping comments on the EIS or information regarding historic properties or Section 106 consulting party interest through the project website at http://www.PMRF-KPGO-EIS.com or by mail to: Naval Facilities Engineering Systems Command, Hawaii, Environmental OPHEV2, Attention: PMRF and KPGO RE EIS Project Manager, Ms. Kerry Wells, 400 Marshall Road, Building X-11, Pearl Harbor, HI 96860.

FOR FURTHER INFORMATION CONTACT:

DON: Commander, Navy Region Hawaii, Attn: Mr. Danny Hayes, Environmental Public Affairs Specialist, by telephone (808-473-0662) or email (danny.r.bxhayes6.civ@us.navy.mil).

NASA: Shari A. Miller, NASA; EIS Project Manager, by telephone (757-824-2327) or email (Shari.A.Miller@nasa.gov).

SUPPLEMENTARY INFORMATION:

As the proposed action involves State lands, the EIS will be a joint NEPA, Hawaii Environmental Policy Act (HEPA) (as governed by Hawaii Revised Statutes [HRS] chapter 343), and Hawaii Administrative Rules (HAR) section 11-200.1 (implementing HRS chapter 343) document; therefore, the public scoping processes will run concurrently and will jointly meet NEPA and HEPA requirements. The DON and NASA are initiating a 40-day public scoping process to receive comments on the scope of the EIS including identification of potential alternatives and environmental concerns, information and analyses relevant to the Proposed Action, issues the public would like to see addressed in the EIS, and the project's potential to affect historic properties pursuant to section 106 of the National Historic Preservation Act (NHPA) of 1966. DON's action proponent for this proposal is Commander, Navy Region Hawaii.

The DON's purpose for the Proposed Action is to maintain long-term DoD use of 8,348 acres of State lands (including leaseholds and easement lands) on Kaua'i, Hawaii for operational continuity and sustainment of the military readiness mission. NASA's purpose for the Proposed Action is to maintain long-term use of 23 acres of State land on Kaua'i, Hawaii for continued operations of KPGO. The Proposed Action is needed because the existing real estate agreements are set to expire between 2027 and 2030. Preserving the long-term DoD and NASA use of these State lands is critical for military readiness, continuation of ongoing military training and testing, and maintaining data collection efforts of global significance. It also ensures the continued conservation management by the DON and NASA of natural and cultural resources on these lands.

For the Hawaii Department of Land and Natural Resources (DLNR), in addition to its role as the lessor of State lands, the proposed real estate action presents an opportunity for the agency to secure a revenue source to support its management of public lands and associated environmental and conservation programs. Fees from leases and easements are put into a State fund as required by law.

By ensuring continued DON and NASA operations on Kaua'i, the real estate action would also preserve local jobs and income for the residents of Kaua'i, financially contribute to the overall economic well-being of Kaua'i, and maintain continued conservation management of natural and cultural resources on State lands at no cost to the State of Hawaii.

The DON and NASA have identified two preliminary action alternatives to carry forward for analysis in the EIS, along with the No Action Alternative.

Alternative 1 (Succeeding Current Real Estate Agreements): The DON and NASA would apply to DLNR for new long-term real estate agreements in the same manner and for the same uses as the current leases and easements.

Alternative 2 (Fee Simple Acquisition of Current Real Estate Agreements for Leaseholds): The DON and NASA would pursue fee simple acquisition of 700 acres (684—DON, 16—NASA) of leaseholds, and otherwise obtain use of the remaining acreage as described in Alternative 1.

Alternative 3 (No Action Alternative): The DON and NASA would not seek any real estate agreements for the State lands on Kaua'i after expiration of the leases and easements between 2027 to 2030. The current real estate agreements for 8,348 acres with the DON and 23 acres with NASA would expire. All existing infrastructure would be removed, or abandoned in place (as determined by the existing real estate agreements), from the DON and NASA leased and easement lands.

Consistent with Council on Environmental Quality regulations and HAR section 11-200.1-24(b), the scope of the analysis for the alternatives in this EIS is proportionate to the potential for environmental impacts. The following 13 resources have a potential for impacts and are analyzed in this EIS: archaeological and historic resources, cultural practices, biological resources, land use, socioeconomics, environmental justice, water resources, utilities, public health and safety, air quality and greenhouse gases, transportation, hazardous materials and wastes, and visual resources. The EIS will analyze measures that would avoid, minimize, or mitigate environmental effects. The DON and NASA will conduct coordination, consultation, and permitting activities required by the NHPA, the Endangered Species Act, the Clean Water Act, the Coastal Zone Management Act, Hawaii Revised Statues chapter 183C and HAR chapter 13-5, HAR chapter 6E, and other laws and regulations determined to be applicable to the project.

This EIS will satisfy both Federal and State of Hawaii requirements and provide the necessary analyses to allow the DON, NASA, and DLNR to consider the environmental effects of the Proposed Action and alternatives as part of their decision-making. The DON and NASA encourages Federal, State, and local agencies, and interested persons to provide comments concerning the alternatives proposed for study and environmental issues for analysis in the EIS, as well as to identify specific environmental resources the DON and NASA should consider when developing the Draft EIS. The DON and NASA will prepare the Draft EIS and will include analyses of potential effects to the resources the DON, NASA, and the commenting public have identified. All comments received during the public scoping period will be considered during EIS preparation.

Comments must be postmarked or submitted electronically by email to info@PMRF-KPGO-EIS.com, and/or electronically through the EIS website at www.PMRF-KPGO-EIS.com. Comments must be posted by 11:59 p.m. HST on June 17, 2024.

After the scoping period, the DON and NASA will develop the Draft EIS. The DON and NASA intend to release the Draft EIS in summer of 2025, the Final EIS in spring of 2026, with a Record of Decision signed in late spring of 2026.

Dated: May 6, 2024.
Emily A. Pellegrino,
Program Analyst, Directives and Regulatory Team, National Aeronautics and Space Administration.
J.E. Koningisor,
Lieutenant Commander, Judge Advocate General's Corps, U.S. Navy, Federal Register Liaison Officer.

[FR Doc. 2024-10167 Filed 5-8-24; 8:45 am]

BILLING CODE 3810-FF-P